SOCIAL SECURITY ADMINISTRATION

Privacy Act of 1974, as Amended; Alteration to Existing Systems of Records

AGENCY: Social Security Administration (SSA).

ACTION: Proposed New Routine Use for Existing System of Records.

SUMMARY: In accordance with the Privacy Act (5 U.S.C. 552a(e)(4) and (11)), we are issuing public notice of our intent to establish a new routine use disclosure applicable to the system of records entitled Master Files of Social Security Number (SSN) Holders and SSN Applications, 60-0058. The proposed routine use will allow SSA to disclose citizenship status data, in addition to validated SSN information, to assist the Department of Defense (DOD) in identifying those military enrollees and members of the Armed Forces who are aliens or noncitizen nationals that may qualify for expedited naturalization or citizenship processing. We invite public comment on this proposal.

DATES: We filed a report of the proposed new routine use disclosure with the Chairman of the Senate Committee on Governmental Affairs, the Chairman of the House Committee on Government Reform, and the Director, Office of Information and Regulatory Affairs, Office of Management and Budget (OMB) on January 2, 2004. The proposed routine use will become effective on February 11, 2004, unless we receive comments warranting that it not become effective.

ADDRESSES: Interested individuals may comment on this publication by writing to the Executive Director, Office of Public Disclosure, Office of the General Counsel, Social Security Administration, Room 3-A-6 Operations Building, 6401 Security Boulevard, Baltimore, Maryland 21235-6401. All comments received will be available for public inspection at the above address.

FOR FURTHER INFORMATION CONTACT: Ms. Joan Peddicord, Social Insurance Specialist, Strategic Issues Team, Office of Public Disclosure, Office of the General Counsel, Social Security Administration, in Room 3-C-2 Operations Building, 6401 Security Boulevard, Baltimore, Maryland 21235, at e-mail address joan.peddicord@ssa.gov or by telephone at (410) 966-6491.

SUPPLEMENTARY INFORMATION:

I. Discussion of the Proposed New Routine Use

DOD has requested that SSA verify SSNs, and under the proposed new routine use, provide citizenship status data to assist DOD in identifying those military enrollees and members of the Armed Forces who are aliens or noncitizen nationals that may qualify for expedited naturalization or citizenship processing. To satisfy the legal requirements for disclosure under the Privacy Act, SSA must establish a new routine use in the system of records entitled Master Files of Social Security Number (SSN) Holders and SSN Applications, 60-0058.

Data output from this verification process will be used by DOD as part of its ongoing efforts to help identify those military enrollees and members of the Armed Forces who are aliens or noncitizen nationals that may qualify for expedited citizenship or naturalization processing under section 329 of the Immigration and Nationality Act, 8 U.S.C. 1440. Under section 329, the President may make expedited naturalization procedures available to aliens and noncitizen nationals serving in an active duty status by designating, via an Executive Order (EO), a period in which the Armed Forces of the United States are engaged in military operations involving armed conflict with a hostile foreign force. On January 3, 2002, President Bush issued EO 13269, designating such a period to have commenced on September 11, 2001.

SSA already validates SSNs for DOD under an existing routine use. This routine use, number 16, is found in the Master Files of Social Security Number (SSN) Holders and SSN Applications, 60-0058, and permits SSA to disclose SSN verifications to Federal agencies which use the SSN as a numerical identifier in their recordkeeping systems. The proposed routine use will allow the additional disclosure of citizenship status data to DOD as a part of the SSN verification process. The proposed routine use, number 38, reads as follows:

Validated SSN information and citizenship status information may be disclosed to the Department of Defense (DOD) for the purpose of assisting DOD in identifying those members of the Armed Forces and military enrollees who are aliens or noncitizen nationals that may qualify for expedited naturalization or citizenship processing. These disclosures will be made pursuant to requests made under section 329 of the Immigration and Nationality Act, 8 U.S.C. 1440, as executed by Executive Order 13269.

We are not republishing in its entirety the notice of the system of records to which we are adding the proposed new routine use disclosure. Instead, we are republishing only the identification number and the name of the system of record, along with the volume, page number and date of the Federal Register (FR) issue in which the system notice was last published. The proposed new routine use will be included in the Master Files of Social Security Number (SSN) Holders and SSN Applications, 60-0058 (63 F.R. 14165, dated 03/24/98).

II. Compatibility of Proposed Routine Use

The Privacy Act (5 U.S.C. 552a(a)(7) and (b)(3)) and SSA's disclosure regulation (20 CFR Part 401) permit us to disclose information under a published routine use for a purpose that is compatible with the purpose for which we collected the information. Consistent with Executive Order 9397, Numbering System for Federal Accounts Relating to Individual Persons, SSA previously determined that disclosing information to those Federal agencies that use the SSN as a numerical identifier in their recordkeeping systems for the purpose of validating SSNs was compatible with the purposes for which SSA collected such information. The additional disclosure of citizenship status information to DOD helps DOD fulfill its obligation under EO 13269 to identify those members of the Armed Forces and military enrollees who are aliens or noncitizen nationals that may qualify for expedited naturalization or citizenship processing. This use is compatible with the purposes SSA collected the data as described in EO 9397. Thus, the proposed routine use is appropriate and meets the relevant statutory and regulatory criteria.

III. Effect of the Proposed Routine Use Disclosure on the Rights of Individuals

The proposed routine use will allow SSA to disclose SSN verifications and citizenship status information to DOD to assist DOD in identifying military enrollees and members of the Armed Forces who may be entitled to expedited naturalization. DOD has advised SSA that the administrative activity that DOD will conduct, based on information disclosed under the proposed routine use, will not result in decisions or actions taken against specific individuals. The routine use has established safeguards to prevent unauthorized use or disclosure of the record and to ensure the privacy and other rights of individuals. Additionally, we will adhere to all applicable provisions of the Privacy Act when disclosing information. Thus, we do not anticipate that the proposed new routine use will have any unwarranted adverse effect on the rights of individuals about whom data will be disclosed.

Dated: January 2, 2004.
Jo Anne B. Barnhart,
Commissioner.

[FR Doc. 04-350 Filed 1-7-04; 8:45 am]

BILLING CODE 4191-02-P